DEPARTMENT OF HEALTH AND HUMAN SERVICES

Administration for Community Living

Notice of Intent To Award a Single Source Non-competing Continuation Cooperative Agreement for Eight Grant Projects Under the “Part A: The Enhanced ADRC Options Counseling Program” Funded in 2012

AGENCY: Administration for Community Living, Department of Health and Human Services.

ACTION: Notice.

SUMMARY: In 2012, ACL, in partnership with the Centers for Medicare & Medicaid Services (CMS) and the Veterans Health Administration (VHA), issued a special funding opportunity known as the “Part A: The Enhanced ADRC Options Counseling Program” (Part A). The Part A grants were awarded to eight states (CT, MA, MD, NH, OR, VT, WI and WA) to develop a NWD System in their state so the federal partners could leverage the experience and models emerging in these states to serve as the basis for the development of national standards. The one year extension will enable the 8 Part A state grantees to continue their work with ACL, CMS and VHA specifically to further refine the tools, metrics and key elements of a NWD System and pilot the Person Centered Counseling training program.

DATES: Estimated Project Period—September 30, 2015 through September 30, 2016.

SUPPLEMENTARY INFORMATION: Program Name: No Wrong Door System/Aging and Disability Resource Centers

Award Amount:

• $135,000 to Connecticut Department of Social Services

• $135,000 to Maryland Department of Aging

• $135,000 to Massachusetts Executive Office of Elder Affairs

• $135,000 to New Hampshire Department of Health & Human Services

• $135,000 to State of Oregon

• $135,000 to Vermont Agency of Human Services

• $135,000 to Washington State Department of Social & Health Services

• $135,000 to Wisconsin Department of Health Services

Project Period: 9/30/2015 to 9/30/2016

Award Type: Cooperative Agreement

Statutory Authority: The statutory authority for grants under this funding opportunity is contained in Title IV of the Older Americans Act (OAA) (42U.S.C. 3032), as amended by the Older Americans Act Amendments of 2006, P.L. 109-365. Title II Section 202b of the OAA (Pub. L. 109-365) specifically authorizes the Assistant Secretary for Aging to work with the Administrator of the Centers for Medicare & Medicaid Services to: “implement in all states Aging and Disability Resource Centers.”

Catalog of Federal Domestic Assistance (CFDA) Number: 93.048 Discretionary Projects

I. Program Description

ACL, in partnership with the Centers for Medicare & Medicaid Services (CMS) and the Veterans Health Administration (VHA) have supported state efforts to create “one-stop-shop” access programs for people seeking long term services and supports (LTSS) through a No Wrong Door (NWD) System. A NWD System makes it easy for people of all ages, disabilities and income levels to learn about and access the services and supports they need. A NWD System also provides states with a vehicle for better coordinating and integrating existing multiple access functions associated with their various state administered programs that pay for LTSS.

Justification: In order to achieve original goals of the funding opportunity, ACL with its federal partners will utilize this additional time and funds to continue to work with the Part A grantees using a learning collaborative approach to pilot the Person Centered Counseling training program and further refine the key elements for the NWD System, along with a set of tools, metrics, and best practices, all states could use to develop a single “high performing” NWD system of Access to LTSS that would effectively serve all populations.

FOR FURTHER INFORMATION CONTACT: For further information or comments regarding this action, contact Lori Gerhard, U.S. Department of Health and Human Services, Administration for Community Living, Center for Consumer Access and Self-Determination, Office of Integrated Programs, One Massachusetts Avenue, NW. Washington, DC 20001; telephone (202) 357-3443; fax (202) 357-3469; email Lori.Gerhard@acl.hhs.gov.

Dated: May 18, 2015.
Kathy Greenlee,
Administrator and Assistant Secretary for Aging.

[FR Doc. 2015-12312 Filed 5-20-15; 8:45 am]

BILLING CODE 4154-01-P